DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before April 5, 2002.

ADDRESSES: Records Center, Research and Special Programs Administration, U.S. Department of Transportation, Washington, DC 20590.

Comments should refer to the application number and be submitted in triplicate. In confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemptions is published in accordance with Part 107 of the Federal hazardous materials transportation law (49 U.S.C. 5117(b); 49 CFR 1.53(b)).

Issued in Washington, DC, on March 15, 2002.
R. Ryan Posten,
Exemptions Program Officer, Office of Hazardous Materials Exemptions and Approvals.

Application No. | Docket No. | Applicant | Modification of exemption
4453-M |  | Dyno Nobel, Inc., Salt Lake City, UT (See Footnote 1) | 4453
7765-M |  | Carleton Technologies, Inc., Orchard Park, NY (See Footnote 2) | 7765
8439-M |  | Kidde Aerospace, Wilson, NC (See Footnote 3) | 8439
8451-M |  | Olin Corporation, Winchester Group, East Alton, IL (See Footnote 4) | 8451
8495-M |  | Kidde Aerospace, Wilson, NC (See Footnote 5) | 8495
8723-M |  | Dyno Nobel, Inc., Salt Lake City, UT (See Footnote 6) | 8723
10427-M |  | Astrotech Space Operations, Inc., Titusville, FL (See Footnote 7) | 10427
10751-M |  | Dyno Nobel, Inc., Salt Lake City, UT (See Footnote 8) | 10751
10929-M |  | Ashland Inc., Columbus, OH (See Footnote 9) | 10929
11401-M |  | Agilent Technologies, Inc., Santa Clara, CA (See Footnote 10) | 11401
11579-M |  | Dyno Nobel, Inc., Salt Lake City, UT (See Footnote 11) | 11579
12102-M | RSPA-98-4005 | Clean Harbors Environmental Services, Inc., Braintree, MA (See Footnote 12) | 12102
12818-M | RSPA-01-10519 | HRD Aero Systems Inc., Valencia, CA (See Footnote 13) | 12818
¹ To modify the exemption to authorize the transportation of additional Division 1.5D liquid blasting explosives in non-DOT specification bulk cargo tanks, trailers and motor vehicles.
² To modify the exemption to authorize the use of an additional non-DOT specification cylinder bottle assembly unit for the transportation of Division 2.2 materials.
³ To modify the exemption to authorize the transportation of an additional Division 2.2 material in non-DOT specification cylinders.
⁴ To modify the exemption to authorize an alternative outer packaging for the transportation of not more than 25 grams of explosive or pyrotechnic materials classed as Division 1.4E.
⁵ To modify the exemption to authorize an alternate maintenance and inspection program for the non-DOT specification cylinders to permit a 14-year hydrostatic test period.
⁶ To modify the exemption to authorize the transportation of additional Division 1.5D liquid blasting explosives in non-DOT specification bulk cargo tanks, trailers and motor vehicles.
⁷ To modify the exemption to authorize two additional launch vehicles that will utilize their fairing for packaging of spacecrafts during transport and a quantity increase of several hazardous materials contained in the “flight-ready” spacecraft.
⁸ To modify the exemption to authorize the transportation of Division 1.5D liquid blasting explosives in non-DOT specification bulk cargo tanks, trailers and motor vehicles.
⁹ To modify the exemption to authorize the transportation of additional Class 3 materials in DOT Specification tank cars.
¹⁰ To modify the exemption to authorize an increase from 6 grams to a maximum of 9 grams of cesium in the inner cylinder device.
¹¹ To modify the exemption to authorize the transportation of additional Division 1.5D liquid blasting explosives in non-DOT specification cargo tanks.
¹² To modify the exemption to authorize for-hire contract carriers the ability to transport certain unapproved Class 1 desensitized explosive materials by motor vehicle and cargo vessel.
¹³ To reissue the exemption originally issued on an emergency basis for the transportation of certain foreign non-DOT specification steel cylinders used as components (fire extinguishers) in aircraft.

[FR Doc. 02-6823 Filed 3-20-02; 8:45 am]

BILLING CODE 4910-60-M